DEPARTMENT OF ENERGY

Energy Information Administration

Agency Information Collection Proposed New Survey

AGENCY: U.S. Energy Information Administration (EIA), Department of Energy (DOE).

ACTION: Notice and request for comments.

SUMMARY: EIA invites public comment on the proposed collection of information, Form EIA-806, Weekly Natural Gas Liquids Report, as required under the Paperwork Reduction Act of 1995. Form EIA-806 will collect data on production and stocks of natural gas liquids (NGL) on a weekly basis. The new survey will allow EIA to improve accuracy of weekly propane production and, for the first time, allow EIA to report weekly natural gas liquids production using actual data collected from gas processing plants.

DATES: EIA must receive all comments on this proposed information collection no later than June 4, 2018. If you anticipate any difficulties in submitting your comments by the deadline, contact the person listed in the ADDRESSES section of this notice as soon as possible.

ADDRESSES:

Send your comments to: U.S. Energy Information Administration, EI-25 Room BG-041, 1000 Independence Ave. SW, Washington, DC 20585, Attn: Sasha Abdalla.

If you prefer, you can email your comments to sasha.abdalla@eia.gov.

FOR FURTHER INFORMATION CONTACT: If you need additional information or copies of the information collection instrument, send your request to Sasha Abdalla at 202-287-6323 or email it to Sasha.Abdalla@eia.gov. The draft form and instructions are available at https://www.eia.gov/survey/#eia-806.

SUPPLEMENTARY INFORMATION: This information collection request contains:

(1) OMB No.: New Survey;

(2) Information Collection Request Title: Weekly Natural Gas Liquids Report;

(3) Type of Request: New;

(4) Purpose: Weekly petroleum and biofuels supply surveys are used to gather data on petroleum refinery operations, blending, biofuels production, inventory levels, and imports of crude oil, petroleum products, and biofuels from samples of operating companies, with the sampling frame and sampled companies being different for the various surveys. EIA's Office of Petroleum and Biofuels Statistics (PBS) proposes to begin collecting weekly production and inventory of natural gas liquids (NGL) from operators of natural gas processing plants and inventory data from operators of natural gas liquids fractionation plants using a new Form EIA-806 “Weekly Natural Gas Liquids Report.” Data collected on Form EIA-806 will be comparable but less detailed than the data collected on Form EIA-816 “Monthly Natural Gas Liquids Report”. Implementing Form EIA-806 will allow EIA to improve timeliness and accuracy of product supplied data in the Weekly Petroleum Status Report in order to better support policy and business decisions relating to the natural gas processing industry and NGL markets such as heating fuels, transportation fuels, and petrochemicals. Production of NGL from gas processors has increased in recent years, and EIA projections show continued growth of natural gas liquids production through 2025. Form EIA-806 will allow EIA to improve the accuracy of weekly propane production and, for the first time, allow EIA to report weekly natural gas liquids production using actual data collected from gas processing plants. Current Weekly Petroleum Status Report (WPSR) methodology uses the last-available NGL production reported in the Petroleum Supply Monthly (PSM) as a constant value until a new PSM number is published. Form EIA-806 will provide weekly estimates of total NGL production based on actual values. These weekly estimates will replace the monthly values that are derived from data reported on Form EIA-816. EIA estimates the burden per response to Form EIA-806 to be thirty (30) minutes. NGL production from gas processing plants is used in the WPSR calculation of U.S. total petroleum demand. Annual NGL production from gas processing plants increased as a percent of U.S. total petroleum demand from just under 10 percent in 2000 to nearly 18 percent in 2016.

(5) Annual Estimated Number of Respondents: 275;

(6) Annual Estimated Number of Total Responses: 14,300;

(7) Annual Estimated Number of Burden Hours: 7,150;

(8) Annual Estimated Reporting and Recordkeeping Cost Burden: The cost of the burden hours is estimated to be $541,183.50 (7,150 burden hours times $75.69 per hour). EIA estimates that respondents will have no additional costs associated with the surveys other the burden hours.

Comments are invited on whether or not: (a) The proposed collection of information is necessary for the proper performance of agency functions, including whether the information will have a practical utility; (b) EIA's estimate of the burden of the proposed collection of information, including the validity of the methodology and assumptions used, is accurate; (c) EIA can improve the quality, utility, and clarity of the information it will collect; and (d) EIA can minimize the burden of the collection of information on respondents, such as automated collection techniques or other forms of information technology.

Statutory Authority: Section 13(b) of the Federal Energy Administration Act of 1974, Pub. L. 93-275, codified as 15 U.S.C. 772(b) and the DOE Organization Act of 1977, Pub. L. 95-91, codified at 42 U.S.C. 7101 et seq.

Issued in Washington, DC, on March 28, 2018.
Nanda Srinivasan,
Director, Office of Survey Development and Statistical Integration, U.S. Energy Information Administration.

[FR Doc. 2018-06866 Filed 4-3-18; 8:45 am]

BILLING CODE 6450-01-P